DEPARTMENT OF ENERGY

Federal Energy Regulatory Commission

[Docket Nos. CP16-486-000, PF16-3-000]

Notice of Application Millennium Pipeline Company, LLC

Take notice that on July 29, 2016, Millennium Pipeline Company (Millennium), One Blue Hill Plaza, Pearl River, New York 10965, filed in Docket No. CP16-486-000 an application pursuant to section 7(c) of the Natural Gas Act (NGA), and Part 157 of the Commission's Regulations, requesting a certificate of public convenience and necessity authorizing their Eastern System Upgrade Project. This project will provide an additional 223 million cubic feet per day (MMcf/d) of firm transportation capacity from Millennium's Corning Compressor Station (CS) to an existing interconnection with Algonquin Gas Transmission, LLC located in Ramapo, New York, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Georgia Carter, Vice President and General Counsel, Millennium Pipeline Company, LLC, 109 North Post Oak Lane, Suite 210, Houston, TX 77024, by calling 804-921-1408, or emailing carter@millenniumpipeline.com.

Specifically, Millennium proposes to construct, operate, and maintain (1) Approximately 7.8-miles of 30- and 36-inch-diameter pipeline loop in Orange County, New York; (2) a new 22,400 horsepower (HP) compressor station in Sullivan County, New York; (3) additional 22,400 HP at the existing Hancock Compressor Station in Delaware County, New York; (4) modifications to the existing Ramapo Meter and Regulator Station in Rockland County, New York; (5) modifications to the Wagoner Interconnect in Orange County, New York; (6) additional pipeline appurtenant facilities at the existing Huguenot and Westtown Meter and Regulating Stations in Orange County, New York; and (7) an alternate interconnect to the 16-inch-diameter Valley Lateral at milepost 7.6 of the Project.

Millennium states that 202.5 MMcf/d of project capacity is committed under precedent agreements with local distribution companies and municipalities. Millennium requests that that the Commission issue the requested authorizations by July 31, 2017, in order to allow Millennium sufficient time to meet a targeted in-service date in September 2018. Millennium proposes to charge negotiated rates to its project shippers and existing Rate Schedule FT-1 rates for service on the expansion capacity created by the project. The cost of the project is $275,000,000.

On February 5, 2016, the Commission staff granted Millennium's request to utilize the Pre-Filing Process and assigned Docket No. PF16-3-000 to staff activities involved in the above referenced project. Now, as of the filing of the July 29, 2016 application, the Pre-Filing Process for this project has ended. From this time forward, this proceeding will be conducted in Docket No. CP16-486-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit original and five copies of the protest or intervention to the Federal Energy Regulatory Commission, 888 First Street NE., Washington, DC 20426.

Comment Date: 5 p.m. Eastern Time on September 1, 2016.

Dated: August 11, 2016.
Nathaniel J. Davis, Sr.,
Deputy Secretary.

[FR Doc. 2016-19569 Filed 8-16-16; 8:45 am]

BILLING CODE 6717-01-P